Title 3—

The President

Proclamation 10049 of June 5, 2020

Modifying the Northeast Canyons and Seamounts Marine National Monument

By the President of the United States of America

A Proclamation

In Proclamation 9496 of September 15, 2016, and exercising his authority under section 320301 of title 54, United States Code (the “Antiquities Act”), the President established the Northeast Canyons and Seamounts Marine National Monument, reserving for the care and management of objects of historic and scientific interest approximately 4,913 square miles of water and submerged lands in and around certain deep-sea canyons and seamounts situated upon lands and interests in lands owned or controlled by the Federal Government. The President prohibited commercial fishing, with a phase-out period for American lobster and red crab fisheries, within the monument's boundaries. This proclamation lifts the prohibition on commercial fishing, an activity that is subject to the Magnuson-Stevens Fishery Conservation and Management Act (Magnuson-Stevens), 16 U.S.C. 1801 et seq., and other applicable laws, regulations, and requirements. This proclamation does not modify the monument in any other respect.

Proclamation 9496 identifies a number of canyons and seamounts as objects of historic and scientific interest. The monument is designated in two units, which correspond to two distinct geological features. The Canyons Unit comprises three underwater canyons that start at the edge of the continental shelf, whereas the Seamounts Unit consists of four undersea mountains. Both units are located in the United States Exclusive Economic Zone. In addition to the geological features, Proclamation 9496 designates the natural resources and ecosystems in and around the Canyons and Seamounts Units as objects of historic and scientific interest. Proclamation 9496 describes diverse ecological communities in the canyon and seamount areas, which include seabirds, whales, dolphins, turtles, and highly migratory fish species, such as tunas, billfish, and sharks. Proclamation 9496 observes that some of these species have appeared in the canyon and seamount areas in large aggregations and increased numbers. In support of the monument designation, Proclamation 9496 notes that “[t]hese canyons and seamounts, and the ecosystem they compose, have long been of intense scientific interest,” with “[s]cientists from government and academic oceanographic institutions” studying “the canyons and seamounts using research vessels, submarines, and remotely operated underwater vehicles for important deep-sea expeditions.”

As part of the management of the monument, Proclamation 9496 prohibited, subject to the phase-out period previously noted, all commercial fishing within the monument's boundaries. As explained herein, following further consideration of the nature of the objects identified in Proclamation 9496 and the protection of those objects already provided by relevant law, I find that appropriately managed commercial fishing would not put the objects of scientific and historic interest that the monument protects at risk. Indeed, Proclamation 9496 allows for recreational fishing and further acknowledges that “[t]hroughout New England, the maritime trades, and especially fishing, have supported a vibrant way of life, with deep cultural roots and a strong connection to the health of the ocean and the bounty it provides.”

With respect to fish in particular, many of the fish species that Proclamation 9496 identifies are highly migratory and not unique to the monument. Some of the examples of fish species that Proclamation 9496 identifies are not of such significant scientific interest that they merit additional protection beyond that already provided by other law. Moreover, the fish species described in Proclamation 9496 are subject to Federal protections under existing laws and agency management designations. For example, Magnuson-Stevens regulates commercial fishing to ensure long-term biological and economic sustainability for our Nation's marine fisheries, taking into account the protection of associated marine ecosystems. Magnuson-Stevens establishes regional fishery management councils, supervised by the Secretary of Commerce in coordination with the States and affected stakeholders, that develop fishery management plans to regulate our Nation's fisheries, using the best available science and observing strict conservation and management requirements. Magnuson-Stevens requires a similar process of science-based fisheries management for highly migratory species, including the tunas referenced in Proclamation 9496. In addition, Magnuson-Stevens provides that fishery management plans may include, among other measures, management measures to conserve target and non-target species and habitats, including measures to protect deep-sea corals.

A host of other laws enacted after the Antiquities Act provide specific protection for other plant and animal resources (including coral species) both within and outside the monument. These laws include the Endangered Species Act, 16 U.S.C. 1531 et seq., the Migratory Bird Treaty Act, 16 U.S.C. 703-712, the National Wildlife Refuge System Administration Act, 16 U.S.C. 668dd-668ee, the Refuge Recreation Act, 16 U.S.C. 460k et seq., the Marine Mammal Protection Act, 16 U.S.C. 1361 et seq., the Clean Water Act, 33 U.S.C. 1251 et seq., the Oil Pollution Act, 33 U.S.C. 2701 et seq., the National Marine Sanctuaries Act, 16 U.S.C. 1431 et seq., and Title I of the Marine Protection, Research and Sanctuaries Act (Ocean Dumping Act), 33 U.S.C. 1401 et seq. For example, the Endangered Species Act generally prohibits the taking of fish and wildlife species listed as endangered, and also generally ensures that Federal actions, including fisheries management, are not likely to jeopardize the existence of any such species. The Marine Mammal Protection Act provides protections for marine mammals, and prohibits their take, subject to some exceptions. Numerous other statutes, including the Clean Water Act, Oil Pollution Act, and Ocean Dumping Act, address both land-based and ocean-based sources of pollution and help ensure that water quality continues to support plankton and other pelagic organisms.

After further consideration of the nature of the objects identified in Proclamation 9496 and the protection of those objects already provided by Magnuson-Stevens and other relevant law, I find that a prohibition on commercial fishing is not, at this time, necessary for the proper care and management of the Northeast Canyons and Seamounts Marine National Monument, or the objects of historic or scientific interest therein.

WHEREAS, Proclamation 9496 of September 15, 2016, designated the Northeast Canyons and Seamounts Marine National Monument in the Atlantic Ocean and reserved approximately 4,913 square miles in the United States Exclusive Economic Zone for the care and management of objects of historic and scientific interest identified therein;

WHEREAS, I find that removing the restrictions on commercial fishing set forth in Proclamation 9496 to allow for well-regulated commercial fishing use is in the public interest and that the objects in the monument can be, and are currently, protected pursuant to carefully tailored regulation and management under existing Federal law:

NOW, THEREFORE, I, DONALD J. TRUMP, President of the United States of America, by the authority vested in me by the Constitution and the laws of the United States, including section 320301 of title 54, United States Code, hereby proclaim that Proclamation 9496, which established the Northeast Canyons and Seamounts Marine National Monument, is amended as follows:

(1) in the section entitled “Prohibited Activities,” by deleting paragraph 6; and

(2) in the section entitled “Regulated Activities,” by deleting paragraph 5 and by re-designating paragraphs 6 and 7 as paragraphs 5 and 6, respectively.

Furthermore, nothing in paragraph 4 in the section entitled “Prohibited Activities” in Proclamation 9496 shall be deemed to apply to commercial fishing that is carried out in accordance with Magnuson-Stevens and other applicable laws, regulations, and requirements.

Nothing in this proclamation shall be construed to revoke, modify, or affect any withdrawal, reservation, or appropriation, other than the one created by Proclamation 9496.

Nothing in this proclamation shall change the management of the areas designated and reserved by Proclamation 9496, except as explicitly provided in this proclamation.

If any provision of this proclamation, including its application to a particular parcel of land, is held to be invalid, the remainder of this proclamation and its application to other parcels of land shall not be affected thereby.

IN WITNESS WHEREOF, I have hereunto set my hand this fifth day of June, in the year of our Lord two thousand twenty, and of the Independence of the United States of America the two hundred and forty-fourth.

[FR Doc. 2020-12823

Filed 6-10-20; 11:15 am]

Billing code 3295-F0-P